DEPARTMENT OF THE INTERIOR

Bureau of Reclamation

Quarterly Status Report of Water Service, Repayment, and Other Water-Related Contract Negotiations

AGENCY: Bureau of Reclamation, Interior.

ACTION: Notice.

SUMMARY: Notice is hereby given of proposed contractual actions that are new, modified, discontinued, or completed since the last publication of this notice on July 21, 2000. The January 21, 2000, notice should be used as a reference point to identify changes. This annual notice should be used as a point of reference to identify changes in future notices. This notice is one of a variety of means used to inform the public about proposed contractual actions for capital recovery and management of project resources and facilities. Additional Bureau of Reclamation (Reclamation) announcements of individual contract actions may be published in the Federal Register and in newspapers of general circulation in the areas determined by Reclamation to be affected by the proposed action. Announcements may be in the form of news releases, legal notices, official letters, memorandums, or other forms of written material. Meetings, workshops, and/or hearings may also be used, as appropriate, to provide local publicity. The public participation procedures do not apply to proposed contracts for sale of surplus or interim irrigation water for a term of 1 year or less. Either of the contracting parties may invite the public to observe contract proceedings. All public participation procedures will be coordinated with those involved in complying with the National Environmental Policy Act.

ADDRESSES: The identity of the approving officer and other information pertaining to a specific contract proposal may be obtained by calling or writing the appropriate regional office at the address and telephone number given for each region in the supplementary information.

FOR FURTHER INFORMATION CONTACT: Sandra L. Simons, Manager, Water Contracts and Repayment Office, Bureau of Reclamation, PO Box 25007, Denver, Colorado 80225-0007; telephone 303-445-2902.

SUPPLEMENTARY INFORMATION: Pursuant to section 226 of the Reclamation Reform Act of 1982 (96 Stat. 1273) and 43 CFR 426.20 of the rules and regulations published in 52 FR 11954, Apr. 13, 1987, Reclamation will publish notice of the proposed or amendatory contract actions for any contract for the delivery of project water for authorized uses in newspapers of general circulation in the affected area at least 60 days prior to contract execution. Pursuant to the “Final Revised Public Participation Procedures” for water resource-related contract negotiations, published in 47 FR 7763, Feb. 22, 1982, a tabulation is provided of all proposed contractual actions in each of the five Reclamation regions. Each proposed action is, or is expected to be, in some stage of the contract negotiation process in 2000. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act (80 Stat. 383), as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to: (i) The significance of the modification, and (ii) the degree of public interest which has been expressed over the course of the negotiations. As a minimum, the regional director shall furnish revised contracts to all parties who requested the contract in response to the initial public notice.

Acronym Definitions Used Herein

(BON) Basis of Negotiation

(BCP) Boulder Canyon Project

(CAP) Central Arizona Project

(CUP) Central Utah Project

(CVP) Central Valley Project

(CRSP) Colorado River Storage Project

(D&MC) Drainage and Minor Construction

(FR) Federal Register

(IDD) Irrigation and Drainage District

(ID) Irrigation District

(M&I) Municipal and Industrial

(NEPA) National Environmental Policy Act

(O&M) Operation and Maintenance

(P-SMBP) Pick-Sloan Missouri Basin Program

(PPR) Present Perfected Right

(RRA) Reclamation Reform Act

(R&B) Rehabilitation and Betterment

(SOD) Safety of Dams

(SRPA) Small Reclamation Projects Act

(WCUA) Water Conservation and Utilization Act

(WD) Water District

Pacific Northwest Region: Bureau of Reclamation, 1150 North Curtis Road, Suite 100, Boise, Idaho 83706-1234, telephone 208-378-5346.

New contract actions:

17. Farmer's Ditch Association and Buck and Jones Ditch Association, Rogue River Basin Project, Oregon: Long-term irrigation water service contract for provision of up to 4,475 acre-feet of stored water from Applegate Reservoir (a COE project) in exchange for the assignment of Little Applegate River natural flow rights to Reclamation for instream flow use.

18. Ochoco ID, Crooked River Project, Oregon: Contract for the deferment of the District's annual installment due December 31, 2000, and 2001, under the Ochoco Dam, SOD repayment contract.

Modified contract action:

9. North Unit ID, Deschutes Project, Oregon: Repayment contract for reimbursable cost of dam safety repairs to Wickiup Dam under the SOD program.

Discontinued contract action:

15. Milner ID, Minidoka-Palisades Projects, Idaho: Amendment of storage contracts to reduce the District's spaceholding in Palisades Reservoir by up to 5,162 acre-feet, thereby allowing use of this space by Reclamation for flow augmentation.

Mid-Pacific Region: Bureau of Reclamation, 2800 Cottage Way, Sacramento, California 95825-1898, telephone 916-978-5250.

New contract actions:

42. Madera-Chowchilla Water and Power Authority, CVP, California: Agreement to transfer the operation, maintenance, and replacement and certain financial and administrative activities related to the Madera Canal and associated works.

43. Truckee-Carson ID, Newlands Project, Nevada: Amendment to O&M contract No. 7-07-20-X0348 to include mutually agreed upon Consumer Price Index (CPI) for the current year and incorporation of a new CPI as determined by the Contracting Officer applicable to Fallon, Nevada (or the nearest urban area in the event that such index is not determined for Fallon, Nevada).

Modified contract action:

23. Warren Act Contracts, CVP, California: Execution of long-term Warren Act contracts with various entities for conveyance of non-project water in the Delta-Mendota Canal and Warren Act contracts (up to 25 years) for conveyance of non-project water in the Friant Division facilities.

Discontinued contract action:

25. Sierra Pacific Power Company, Town of Fernley, State of California, City of Reno, City of Sparks, Washoe County, State of Nevada, Truckee-Carson ID, and any other local interest or Native-American Tribal interest, who may have negotiated rights under Public Law 101-618; Nevada and California: Contract for the storage of non-Federal water in Truckee River reservoirs as authorized by Public Law 101-618 and the Preliminary Settlement Agreement. The contracts shall be consistent with the Truckee River Water Quality Settlement Agreement and the terms and conditions of the proposed Truckee River Operating Agreement.

Lower Colorado Region: Bureau of Reclamation, PO Box 61470 (Nevada Highway and Park Street), Boulder City, Nevada 89006-1470, telephone 702-293-8536.

New contract actions:

65. Arizona State Land Department, CAP, Arizona: Proposed assignment of 1,000 acre-feet of ASLD's CAP M&I water entitlement to the City of Peoria.

66. City of Chandler, CAP, Arizona: Proposed amendment of CAP water delivery subcontract to delete provision requiring offsetting reduction of Chandler's CAP water entitlement for quantities of water received in a direct effluent exchange with an Indian Community.

67. City of Mesa, CAP, Arizona: Proposed amendment of CAP water delivery subcontract to delete provision requiring offsetting reduction of Mesa's CAP water entitlement for quantities of water received in a direct effluent exchange with an Indian Community.

Completed contract action:

36. Arizona Public Service Company and Imperial ID, BCP, Arizona and California: Delivery contract for up to 1,500 acre-feet of unused Arizona entitlement and/or surplus water.

Upper Colorado Region: Bureau of Reclamation, 125 South State Street, Room 6107, Salt Lake City, Utah 84138-1102, telephone 801-524-4419.

New contract action:

1. Individual irrigators, M&I, and miscellaneous water users, Initial Units, CRSP; Utah, Wyoming, Colorado, and New Mexico: Temporary (interim) water service contracts for surplus project water for irrigation or M&I use to provide up to 10,000 acre-feet of water annually for terms up to 10 years; long-term contracts for similar service for up to 1,000 acre-feet of water annually.

(g) James F. Squirrell, Aspinall Unit, CRSP, Colorado: Ten-year contract for 23 acre-feet of M&I water to support the augmentation plan. Mr. Squirrell has filed a Finding of Fact and Ruling of Referee with the Division 4 Water Court of the State of Colorado, case No. 97-CW-223, dated July 7, 1999. The augmentation plan requires Mr. Squirrell to augment out-of-priority depletions caused by the operation of the Arrowhead Subdivision's potable water supply system.

Great Plains Region: Bureau of Reclamation, PO Box 36900, Federal Building, 316 North 26th Street, Billings, Montana 59107-6900, telephone 406-247-7730.

New contract actions:

42. Fryingpan-Arkansas Project, Colorado: Pueblo Board of Water Works, long-term conveyance contract. (Inadvertently listed under modified contract actions in the July 21, 2000, notice.)

43. Tom Green County Water Control and Improvement District No. 1, San Angelo Project, Texas: The District has requested a deferment of its 2001 construction payment.

Modified contract actions:

5. City of Rapid City and Rapid Valley Water Conservancy District, Rapid Valley Unit, P-SMBP, South Dakota: Contract renewal for storage capacity in Pactola Reservoir.

7. Northern Cheyenne Indian Reservation, Yellowtail Unit, Lower Bighorn Division, P-SMBP, Montana: The Northern Cheyenne Reserved Water Rights Settlement Act of 1992 allocates to the Tribe 30,000 acre-feet of water per year stored at Bighorn Reservoir, Montana. In accordance with section 9 of the Act, Reclamation and the Tribe must negotiate an agreement for the water. The Tribe is to pay the United States both capital and O&M costs for water the Tribe uses or sells from this storage for M&I purposes. Reclamation and the Tribe are continuing to negotiate the terms of the Agreement. The agreement has been sent to the Tribe for signature. A date for execution has not been scheduled.

9. Angostura ID, Angostura Unit, P-SMBP, South Dakota: Another interim 3-year contract was executed on June 9, 2000, to provide for a continuing water supply and allow adequate time for completion of the Environmental Impact Statement for long-term contract renewal. A BON for a long-term contract renewal has been sent to the Denver Office for review/approval by the Commissioner's Office.

14. P-SMBP, Kansas: Anticipate initiating negotiations for renewal of long-term water service contracts with the Kirwin and Webster IDs in the Solomon River Basin in Kansas which were extended for a period of 4 years in accordance with Public Law 104-326 enacted October 19, 1996. Water service contracts will be renewed prior to expiration.

Completed contract actions:

11. P-SMBP, Kansas and Nebraska: Long-term water supply renewal contracts with Kansas-Bostwick, Bostwick ID in Nebraska, Frenchman Valley, Frenchman-Cambridge, and Almena IDs were executed on July 25, 2000. The renewed long-term water service contracts will take effect January 1, 2001.

34. Tom Green County Water Control and Improvement District No. 1, San Angelo Project, Texas: The District requested deferment of its 2000 construction payment. The deferment has been approved by the Secretary of the Interior. A public notice for this action was printed in the San Angelo Times. The 60-day comment period ended July 3, 2000. The deferment of the 2000 construction payment was signed on July 11, 2000.

Dated: October 6, 2000.
Wayne O. Deason,
Associate Director,, Office of Policy.

[FR Doc. 00-26452 Filed 10-13-00; 8:45 am]

BILLING CODE 4310-MN-P